DEPARTMENT OF HEALTH AND HUMAN SERVICES

Centers for Disease Control and Prevention

[Program Announcement USP01]

Measuring the Impact of Health Messages in United States Soap Operas on Foreign Audiences; Notice of Award of Funds

A. Purpose

The Centers for Disease Control and Prevention (CDC) announces the award of fiscal year (FY) 2002 funds for a grant program for Measuring the Impact of Health Messages in U.S. Soap Operas on Foreign Audiences.

The purpose of this program is to measure the impact of health-related content in U.S. produced television soap operas on foreign audiences and assess how international viewers elicit the meaning of these health messages and how culturally transferable the health content embedded in American soaps might be. This program addresses the “Healthy People 2010” focus area of Educational and Community-Based Programs.

B. Eligible Applicants

Assistance is being provided only to Population Communications International (PCI), Studio City, California, based on submission of an unsolicited application. Despite the global reach and viewership of U.S. produced television soap operas, little research has been conducted that investigates international audiences' perceptions of American television soap operas and in particular, the impact health messages contained in American soap operas has on international viewers. As a leading proponent and practitioner of entertainment-education methodology, PCI works with the U.S. television industry to encourage Hollywood television producers to incorporate health and population messages in their programs. PCI also works with partners in developing countries to produce carefully researched and culturally sensitive soap operas and to train selected leaders from developing countries in using television for social change.

C. Availability of Funds

Approximately $187,125 is available in FY 2002. The award will begin on or about August 19, 2002 and will be made for a 12-month budget period within a project period of two years.

D. Where To Obtain Additional Information

Business management technical assistance may be obtained from: Cynthia R. Collins, Lead Grants Management Specialist, International and Territories Acquisition and Assistance Branch, Centers for Disease Control and Prevention (CDC), 2920 Brandywine Road, Rm. 3000, MS/E-09, Atlanta, GA 30341-4146. Telephone: (770) 488-2757. Fax: (770) 488-2688. E-mail: coc9@cdc.gov.

For program technical assistance, contact: Christine Galavotti, Behavioral Research Team Leader, Women's Health and Fertility Branch, Division of Reproductive Health, National Center for Chronic Disease Prevention and Health Promotion, Centers for Disease Control and Prevention, 4770 Buford Highway, NE., Atlanta, GA 30341-3724. Phone: (770) 488-6401. E-mail: CGalavotti@cdc.gov.

Dated: August 24, 2002.
Sandra R. Manning,
CGFM, Director, Procurement and Grants Office, Centers for Disease Control and Prevention.

[FR Doc. 02-22168 Filed 8-29-02; 8:45 am]

BILLING CODE 4163-18-P